DEPARTMENT OF ENERGY

Federal Energy Regulatory Commission

[Docket No. RP02-438-002]

CenterPoint Energy-Mississippi River Transmission Corporation; Notice of Compliance Filing

October 18, 2002.

Take notice that on October 11, 2002, CenterPoint Energy-Mississippi River Transmission Corporation (MRT), formerly known as Mississippi River Transmission Corporation, tendered for filing as part of its FERC Gas Tariff, Third Revised Volume No. 1, the following revised tariff sheets to be effective on October 1, 2002:

Substitute Tenth Revised Sheet no. 80,

Substitute First Revised Sheet no. 80A,

Substitute Fourth Revised Sheet no. 119,

Sixth Revised Sheet no. 120.

MRT states that the purpose of this filing is to comply with the Commission's Letter Order regarding MRT's filing to comply with Order no. 587-O.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Website at http://www.ferc.gov using the “FERRIS” link. Enter the docket number excluding the last three digits in the docket number field to access the document. For Assistance, call (202)502-8222 or for TTY, (202) 502-8659. The Commission strongly encourages electronic filings. See 18 CFR 385.2001(a)(1)(iii) and the instructions on the Commission's Web site under the “e-Filing” link.

Linwood A. Watson, Jr.,
Deputy Secretary.

[FR Doc. 02-27283 Filed 10-24-02; 8:45 am]

BILLING CODE 6717-01-P